DEPARTMENT OF THE INTERIOR

Fish and Wildlife Service

[FWS-R9-IA-2009-N0087; 96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species or marine mammals. Both the Endangered Species Act and the Marine Mammal Protection Act require that we invite public comment on these permit applications.

DATES: Written data, comments or requests must be received by June 1, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Dr. Richard A. Miller, University of Michigan, Ann Arbor, MI, PRT-207590

The applicant requests a permit to acquire from Coriell Cell Repositories, Camden, NJ, in interstate commerce fibroblast tissue culture cells from cottontop tamarin (Saguinus oedipus), bonobo (Pan paniscus), gorilla (Gorilla gorilla), Lar gibbon (Hylobates lar), and orangutan (Pongo pygmaeus) for the purpose of scientific research.

Applicant: Texas Tech University, Department of Biological Sciences, Lubbock, TX, PRT-206910

The applicant requests a permit to import biological specimens of dwarf crocodiles (Osteolaemus tetraspis osborni and Osteolaemus tetraspis tetraspis) from the National Museum of Natural History Naturalis, Leiden, The Netherlands, for the purpose of scientific research.

Applicant: Virginia Zoological Park, Norfolk, VA, PRT-209661

The applicant requests a permit to import one male captive born Malayan tapir (Tapirus indicus) from the Singapore Zoo, Singapore, for the purpose of enhancement of the survival of the species.

Applicant: Lionshare Farm Zoological, Greenwich, CT, PRT-210329

The applicant requests a permit to import three live, captive-born cheetahs (Acinonyx jubatus) - two males and one female - from South Africa for the purpose of enhancement of the survival of the species.

Applicant: Samia E. Carillo-Percastegui, Tucson, AZ, PRT-206262

The applicant requests a permit to import opportunistically collected biological samples of jaguar (Panthera onca) taken from the wild on study sites in Peru for the purpose of scientific research.

Applicant: Institute for the Conservation of Tropical Environments, Stony Brook, NY, PRT-206677

The applicant requests a permit to import biological samples of brown mouse lemur (Microcebus rufus), Milne-Edwards Sifaka (Propithecus edwardsi), and black and white ruffed lemur (Varicia variegata) collected from the wild in Madagascar for the purpose of scientific research.

Applicant: Point Defiance Zoo, Tacoma, WA, PRT-210142

The applicant requests a permit to import four live, captive-born clouded leopards (Neofelis nebulosa) - two males and two females - from Khao Kheow Open Zoo, Chonburi, Thailand, for the purpose of enhancement of the species through captive breeding.

The following applicants request a permit to import the sport-hunted trophy of one male bontebok (Damaliscus pygargus pygargus) culled from a captive herd maintained under the management program of the Republic of South Africa, for the purpose of enhancement of the survival of the species.

Applicant: Colorado Buck, Duncan, OK, PRT-212475

Applicant: Karl F. Kurz, Houston, TX, PRT-209996

Applicant: David J. Hemmings, Grand Rapids, MI, PRT-209672

Applicant: Bruce P. Ford, Savannah, GA, PRT-210876

Applicant: Jerry W. Ford, Hartsville, TN, PRT-211165

Applicant: Luis F. Carlo Mendoza, Mayaguez, PR, PRT-212582

Applicant: Anthony J. Kiburis, Pinckney, MI, PRT-211151

Applicant: Michael A. Bindon, Howell, MI, PRT-211149

Applicant: Stephen G. Bindon, Howell, MI, PRT-211150

Marine Mammals

The public is invited to comment on the following application for a permit to conduct certain activities with marine mammals. The application was submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: U.S. Geological Survey, Alaska Science Center, Anchorage, AK, PRT-801652

The applicant requests an amendment to an existing permit to take additional walrus (Odobenus rosmarus) for radio tagging and incidental harassment for the purpose of scientific research. This notification covers activities to be conducted by the applicant over the remainder of their 5-year permit.

Concurrent with the publication of this notice in the Federal Register, the Division of Management Authority is forwarding a copy of the above application to the Marine Mammal Commission and the Committee of Scientific Advisors for their review.

Dated: April 17, 2009.
Lisa Lierheimer,
Senior Permit Biologist, Branch of Permits, Division of Management Authority.

[FR Doc. E9-10056 Filed 4-30-09; 8:45 am]

BILLING CODE 4310-55-S